DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published on February 8, 2000 [65 FR 6249]. Comments were due April 11, 2000. No comments were received.

DATES: Comments must be submitted on or before May 31, 2000.

FOR FURTHER INFORMATION CONTACT: Thomas Olsen, Office of Financial and Rate Approvals, Room 8117, Maritime Administration, 400 Seventh Street, SW, Washington, DC 20590, telephone number 202-366-2313. Copies of this collection can also be obtained from that office.

SUPPLEMENTARY INFORMATION:

Maritime Administration

Title of Collection: “Determination of Fair and Reasonable Rates For the Carriage of Bulk and Packaged Cargoes on U.S.-flag Commercial Vessels.”

OMB Control Number: 2133-0514.

Type of Request: Approval of an existing information collection.

Affected Public: U.S. citizens that own and/or operate U.S.-flag vessels.

Form(s): None.

Abstract: This collection of information requires U.S.-flag operators to submit vessel operating costs and capital costs data to MARAD officials on an annual basis. The costs are used by MARAD in determining fair and reasonable guideline rates for the carriage of preference cargoes on U.S.-flag vessels. In addition, U.S.-flag vessel operators are required to submit Post Voyage Reports to MARAD after completion of a cargo preference voyage. The information collection is used by MARAD officials to calculate fair and reasonable rates for U.S.-flag vessels engaged in the carriage of preference cargoes.

Annual Estimated Burden Hours: 640 Hours.

ADDRESSES: Send comments to the Office of Information and Regulatory Affairs, Office of Management and Budget, 725-17th Street, NW, Washington, DC 20503, Attention MARAD Desk Officer.

Comments are Invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is best assured of having its full effect if OMB receives it within 30 days of publication.

Dated: April 25, 2000.
Joel C. Richard,
Secretary, Maritime Administration.

[FR Doc. 00-10724 Filed 4-28-00; 8:45 am]

BILLING CODE 4910-81-P